DEPARTMENT OF HOMELAND SECURITY

Federal Emergency Management Agency

44 CFR Part 64

[Docket ID FEMA-2012-0003; Internal Agency Docket No. FEMA-8239]

Suspension of Community Eligibility

AGENCY: Federal Emergency Management Agency, DHS.

ACTION: Final rule.

SUMMARY: This rule identifies communities where the sale of flood insurance has been authorized under the National Flood Insurance Program (NFIP) that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date.

DATES: Effective Dates: The effective date of each community's scheduled suspension is the third date (“Susp.”) listed in the third column of the following tables.

FOR FURTHER INFORMATION CONTACT: If you want to determine whether a particular community was suspended on the suspension date or for further information, contact David Stearrett, Federal Insurance and Mitigation Administration, Federal Emergency Management Agency, 500 C Street SW., Washington, DC 20472, (202) 646-2953.

SUPPLEMENTARY INFORMATION: The NFIP enables property owners to purchase Federal flood insurance that is not otherwise generally available from private insurers. In return, communities agree to adopt and administer local floodplain management measures aimed at protecting lives and new construction from future flooding. Section 1315 of the National Flood Insurance Act of 1968, as amended, 42 U.S.C. 4022, prohibits the sale of NFIP flood insurance unless an appropriate public body adopts adequate floodplain management measures with effective enforcement measures. The communities listed in this document no longer meet that statutory requirement for compliance with program regulations, 44 CFR part 59. Accordingly, the communities will be suspended on the effective date in the third column. As of that date, flood insurance will no longer be available in the community. We recognize that some of these communities may adopt and submit the required documentation of legally enforceable floodplain management measures after this rule is published but prior to the actual suspension date. These communities will not be suspended and will continue to be eligible for the sale of NFIP flood insurance. A notice withdrawing the suspension of such communities will be published in the Federal Register.

In addition, FEMA publishes a Flood Insurance Rate Map (FIRM) that identifies the Special Flood Hazard Areas (SFHAs) in these communities. The date of the FIRM, if one has been published, is indicated in the fourth column of the table. No direct Federal financial assistance (except assistance pursuant to the Robert T. Stafford Disaster Relief and Emergency Assistance Act not in connection with a flood) may be provided for construction or acquisition of buildings in identified SFHAs for communities not participating in the NFIP and identified for more than a year on FEMA's initial FIRM for the community as having flood-prone areas (section 202(a) of the Flood Disaster Protection Act of 1973, 42 U.S.C. 4106(a), as amended). This prohibition against certain types of Federal assistance becomes effective for the communities listed on the date shown in the last column. The Administrator finds that notice and public comment procedures under 5 U.S.C. 553(b), are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, Section 1315, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for Part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain Federal assistance no longer available in SFHAs
Region III
Pennsylvania:
Braintrim, Township of, Wyoming County | 421008 | November 14, 1973, Emerg; May 15, 1980, Reg; August 2, 2012, Susp. | Aug. 2, 2012 | Aug. 2, 2012.
Clinton, Township of, Wyoming County | 422197 | April 13, 1978, Emerg; July 3, 1990, Reg; August 2, 2012, Susp. | ......do* | Do.
Conewago, Township of, Dauphin County | 422406 | February 10, 1981, Emerg; April 30, 1986, Reg; August 2, 2012, Susp. | ......do | Do.
Dauphin, Borough of, Dauphin County | 420375 | March 16, 1973, Emerg; April 15, 1977, Reg; August 2, 2012, Susp. | ......do | Do.
Derry, Township of, Dauphin County | 420376 | January 12, 1973, Emerg; September 30, 1977, Reg; August 2, 2012, Susp. | ......do | Do.
East Hanover, Township of, Dauphin County | 420377 | May 7, 1973, Emerg; January 16, 1980, Reg; August 2, 2012, Susp. | ......do | Do.
Eaton, Township of, Wyoming County | 420909 | July 27, 1973, Emerg; May 1, 1980, Reg; August 2, 2012, Susp. | ......do | Do.
Elizabethville, Borough of, Dauphin County | 420378 | October 17, 1974, Emerg; June 25, 1976, Reg; August 2, 2012, Susp. | ......do | Do.
Exeter, Township of, Wyoming County | 420911 | January 19, 1973, Emerg; February 1, 1980, Reg; August 2, 2012, Susp. | ......do | Do.
Factoryville, Borough of, Wyoming County | 420912 | August 14, 1975, Emerg; January 17, 1990, Reg; August 2, 2012, Susp. | ......do | Do.
Falls, Township of, Wyoming County | 422198 | December 27, 1974, Emerg; July 3, 1990, Reg; August 2, 2012, Susp. | ......do | Do.
Forkston, Township of, Wyoming County | 422199 | October 15, 1975, Emerg; August 1, 1987, Reg; August 2, 2012, Susp. | ......do | Do.
Halifax, Borough of, Dauphin County | 420379 | January 17, 1974, Emerg; September 5, 1979, Reg; August 2, 2012, Susp. | ......do | Do.
Halifax, Township of, Dauphin County | 421592 | June 17, 1975, Emerg; November 3, 1982, Reg; August 2, 2012, Susp. | ......do | Do.
Harrisburg, City of, Dauphin County | 420380 | April 21, 1972, Emerg; May 2, 1977, Reg; August 2, 2012, Susp. | ......do | Do.
Highspire, Borough of, Dauphin County | 420381 | November 10, 1972, Emerg; April 15, 1977, Reg; August 2, 2012, Susp. | ......do | Do.
Hummelstown, Borough of, Dauphin County | 420382 | March 30, 1973, Emerg; March 15, 1977, Reg; August 2, 2012, Susp. | ......do | Do.
Jackson, Township of, Dauphin County | 421593 | February 5, 1981, Emerg; October 15, 1985, Reg; August 2, 2012, Susp. | ......do | Do.
Jefferson, Township of, Dauphin County | 421594 | February 11, 1976, Emerg; October 15, 1982, Reg; August 2, 2012, Susp. | ......do | Do.
Laceyville, Borough of, Wyoming County | 420913 | April 2, 1974, Emerg; May 15, 1980, Reg; August 2, 2012, Susp. | ......do | Do.
Lemon, Township of, Wyoming County | 422200 | July 2, 1979, Emerg; July 1, 1987, Reg; August 2, 2012, Susp. | ......do | Do.
Londonderry, Township of, Dauphin County | 420383 | March 30, 1973, Emerg; March 18, 1980, Reg; August 2, 2012, Susp. | ......do | Do.
Lower Swatara, Township of, Dauphin County | 420385 | November 3, 1972, Emerg; April 15, 1977, Reg; August 2, 2012, Susp. | ......do | Do.
Lykens, Borough of, Dauphin County | 420386 | March 9, 1973, Emerg; September 3, 1980, Reg; August 2, 2012, Susp. | ......do | Do.
Lykens, Township of, Dauphin County | 421595 | January 20, 1976, Emerg; October 15, 1985, Reg; August 2, 2012, Susp. | ......do | Do.
Mehoopany, Township of, Wyoming County | 422201 | August 21, 1975, Emerg; July 3, 1990, Reg; August 2, 2012, Susp. | ......do | Do.
Meshoppen, Borough of, Wyoming County | 420914 | July 25, 1973, Emerg; September 16, 1981, Reg; August 2, 2012, Susp. | ......do | Do.
Meshoppen, Township of, Wyoming County | 421009 | January 16, 1974, Emerg; February 15, 1980, Reg; August 2, 2012, Susp. | ......do | Do.
Middle Paxton, Township of, Dauphin County | 420387 | March 2, 1973, Emerg; August 15, 1979, Reg; August 2, 2012, Susp. | ......do | Do.
Middletown, Borough of, Dauphin County | 420388 | October 13, 1972, Emerg; December 28, 1976, Reg; August 2, 2012, Susp. | ......do | Do.
Mifflin, Township of, Dauphin County | 421596 | May 9, 1975, Emerg; June 25, 1976, Reg; August 2, 2012, Susp. | ......do | Do.
Millersburg, Borough of, Dauphin County | 420389 | May 9, 1973, Emerg; August 15, 1980, Reg; August 2, 2012, Susp. | ......do | Do.
Monroe, Township of, Wyoming County | 421186 | November 5, 1975, Emerg; July 3, 1990, Reg; August 2, 2012, Susp. | ......do | Do.
Nicholson, Borough of, Wyoming County | 420915 | March 6, 1975, Emerg; March 1, 1987, Reg; August 2, 2012, Susp. | ......do | Do.
Nicholson, Township of, Wyoming County | 422202 | December 31, 1975, Emerg; July 1, 1987, Reg; August 2, 2012, Susp. | ......do | Do.
North Branch, Township of, Wyoming County | 422203 | September 7, 1979, Emerg; August 1, 1987, Reg; August 2, 2012, Susp. | ......do | Do.
Northmoreland, Township of, Wyoming County | 422204 | August 27, 1979, Emerg; July 1, 1987, Reg; August 2, 2012, Susp. | ......do | Do.
Noxen, Township of, Wyoming County | 422205 | September 17, 1975, Emerg; April 1, 1987, Reg; August 2, 2012, Susp. | ......do | Do.
Overfield, Township of, Wyoming County | 422568 | February 13, 1980, Emerg; June 1, 1987, Reg; August 2, 2012, Susp. | ......do | Do.
Paxtang, Borough of, Dauphin County | 420390 | February 2, 1973, Emerg; March 18, 1980, Reg; August 2, 2012, Susp. | ......do | Do.
Reed, Township of, Dauphin County | 420393 | April 4, 1973, Emerg; November 1, 1979, Reg; August 2, 2012, Susp. | ......do | Do.
Royalton, Borough of, Dauphin County | 420394 | March 16, 1973, Emerg; April 15, 1977, Reg; August 2, 2012, Susp. | ......do | Do.
Rush, Township of, Dauphin County | 421597 | March 9, 1976, Emerg; August 19, 1985, Reg; August 2, 2012, Susp. | ......do | Do.
South Hanover, Township of, Dauphin County | 420395 | March 30, 1973, Emerg; May 2, 1977, Reg; August 2, 2012, Susp. | ......do | Do.
Susquehanna, Township of, Dauphin County | 420397 | October 29, 1971, Emerg; April 15, 1977, Reg; August 2, 2012, Susp. | ......do | Do.
Swatara, Township of, Dauphin County | 420398 | April 16, 1973, Emerg; February 3, 1982, Reg; August 2, 2012, Susp. | ......do | Do.
Tunkhannock, Borough of, Wyoming County | 420917 | April 18, 1973, Emerg; December 18, 1979, Reg; August 2, 2012, Susp. | ......do | Do.
Tunkhannock, Township of, Wyoming County | 422206 | June 9, 1975, Emerg; July 15, 1988, Reg; August 2, 2012, Susp. | ......do | Do.
Upper Paxton, Township of, Dauphin County | 420399 | April 5, 1973, Emerg; September 5, 1979, Reg; August 2, 2012, Susp. | ......do | Do.
Washington, Township of, Dauphin County | 421598 | January 20, 1976, Emerg; December 17, 1987, Reg; August 2, 2012, Susp. | ......do | Do.
Washington, Township of, Wyoming County | 422207 | August 27, 1979, Emerg; July 3, 1990, Reg; August 2, 2012, Susp. | ......do | Do.
West Hanover, Township of, Dauphin County | 421600 | September 20, 1974, Emerg; March 18, 1980, Reg; August 2, 2012, Susp. | ......do | Do.
Wiconisco, Township of, Dauphin County | 421030 | September 26, 1973, Emerg; April 15, 1981, Reg; August 2, 2012, Susp. | ......do | Do.
Williams, Township of, Dauphin County | 421601 | September 27, 1976, Emerg; October 15, 1985, Reg; August 2, 2012, Susp. | ......do | Do.
Windham, Township of, Wyoming County | 422208 | December 30, 1975, Emerg; September 4, 1987, Reg; August 2, 2012, Susp. | ......do | Do.
Virginia:
Chilhowie, Town of, Smyth County | 510185 | January 15, 1974, Emerg; June 15, 1978, Reg; August 2, 2012, Susp. | ......do | Do.
Colonial Heights, City of, Independent City | 510039 | June 18, 1975, Emerg; September 2, 1981, Reg; August 2, 2012, Susp. | ......do | Do.
Marion, Town of, Smyth County | 510223 | October 24, 1974, Emerg; November 1, 1979, Reg; August 2, 2012, Susp. | ......do | Do.
Saltville, Town of, Smyth County | 510191 | January 15, 1974, Emerg; March 1, 1978, Reg; August 2, 2012, Susp. | ......do | Do.
Smyth County, Unincorporated Areas | 510184 | December 26, 1973, Emerg; May 15, 1980, Reg; August 2, 2012, Susp. | ......do | Do.
West Virginia:
Elizabeth, Town of, Wirt County | 540212 | June 9, 1975, Emerg; January 17, 1991, Reg; August 2, 2012, Susp. | ......do | Do.
Wirt County, Unincorporated Areas | 540211 | January 19, 1976, Emerg; April 1, 1988, Reg; August 2, 2012, Susp. | ......do | Do.
Region V
Illinois:
Carbon Hill, Village of, Grundy County | 170257 | August 21, 1975, Emerg; September 4, 1985, Reg; August 2, 2012, Susp. | ......do | Do.
Channahon, Village of, Grundy County | 170698 | September 12, 1975, Emerg; February 15, 1983, Reg; August 2, 2012, Susp. | ......do | Do.
Coal City, Village of, Grundy County | 170258 | April 23, 1975, Emerg; May 25, 1978, Reg; August 2, 2012, Susp. | ......do | Do.
Diamond, Village of, Grundy County | 170259 | March 7, 1975, Emerg; May 25, 1978, Reg; August 2, 2012, Susp. | ......do | Do.
Dwight, Village of, Grundy County | 170423 | August 9, 1974, Emerg; November 1, 1990, Reg; August 2, 2012, Susp. | ......do | Do.
East Brooklyn, Village of, Grundy County | 170873 | June 24, 1981, Emerg; July 9, 1982, Reg; August 2, 2012, Susp. | ......do | Do.
Gardner, Village of, Grundy County | 170261 | April 8, 1985, Emerg; April 8, 1985, Reg; August 2, 2012, Susp. | ......do | Do.
Grundy County, Unincorporated Areas | 170256 | June 11, 1974, Emerg; July 18, 1985, Reg; August 2, 2012, Susp. | ......do | Do.
Mazon, Village of, Grundy County | 170262 | August 12, 1975, Emerg; September 27, 1985, Reg; August 2, 2012, Susp. | ......do | Do.
Minooka, Village of, Grundy County | 171019 | N/A, Emerg; March 12, 1992, Reg; August 2, 2012, Susp. | ......do | Do.
Morris, City of, Grundy County | 170263 | July 25, 1974, Emerg; December 18, 1984, Reg; August 2, 2012, Susp. | ......do | Do.
Seneca, Village of, Grundy County | 170407 | May 9, 1975, Emerg; February 1, 1985, Reg; August 2, 2012, Susp. | ......do | Do.
South Wilmington, Village of, Grundy County | 171013 | March 4, 1988, Emerg; March 4, 1988, Reg; August 2, 2012, Susp. | ......do | Do.
Indiana:
Boonville, City of, Warrick County | 180273 | June 25, 1982, Emerg; June 25, 1982, Reg; August 2, 2012, Susp. | ......do | Do.
Chandler, Town of, Warrick County | 180274 | April 2, 1976, Emerg; September 28, 1979, Reg; August 2, 2012, Susp. | ......do | Do.
Newburgh, Town of, Warrick County | 180276 | January 12, 1973, Emerg; May 17, 1982, Reg; August 2, 2012, Susp. | ......do | Do.
Tennyson, Town of, Warrick County | 180350 | N/A, Emerg; November 13, 2008, Reg; August 2, 2012, Susp. | ......do | Do.
Warrick County, Unincorporated Areas | 180418 | April 11, 1975, Emerg; May 17, 1982, Reg; August 2, 2012, Susp. | ......do | Do.
Region VI
Texas:
Mineral Wells, City of, Palo Pinto and Parker Counties | 480517 | March 3, 1972, Emerg; December 1, 1977, Reg; August 2, 2012, Susp. | ......do | Do.
Mingus, City of, Palo Pinto County | 480518 | January 28, 1998, Emerg; September 1, 2004, Reg; August 2, 2012, Susp. | ......do | Do.
Palo Pinto County, Unincorporated Areas | 480516 | November 6, 1981, Emerg; December 19, 1984, Reg; August 2, 2012, Susp. | ......do | Do.
Strawn, City of, Palo Pinto County | 480965 | May 20, 1987, Emerg; November 1, 1989, Reg; August 2, 2012, Susp. | ......do | Do.
Region VII
Iowa:
Fertile, City of, Worth County | 190301 | March 19, 1976, Emerg; August 4, 1987, Reg; August 2, 2012, Susp. | ......do | Do.
Hanlontown, City of, Worth County | 190833 | August 3, 2011, Emerg; N/A, Reg; August 2, 2012, Susp. | ......do | Do.
Manly, City of, Worth County | 190834 | June 15, 2001, Emerg; May 1, 2011, Reg; August 2, 2012, Susp. | ......do | Do.
Worth County, Unincorporated Areas | 190916 | August 4, 2011, Emerg; N/A, Reg; August 2, 2012, Susp. | ......do | Do.
Missouri:
Aurora, City of, Lawrence County | 290199 | December 3, 1974, Emerg; September 15, 1978, Reg; August 2, 2012, Susp. | ......do | Do.
Cobalt Village, Village of, Madison County | 290601 | February 12, 1985, Emerg; July 2, 1987, Reg; August 2, 2012, Susp. | ......do | Do.
Mount Vernon, City of, Lawrence County | 290202 | April 14, 1975, Emerg; February 4, 1981, Reg; August 2, 2012, Susp. | ......do | Do.
Pierce City, City of, Lawrence County | 290203 | May 6, 1975, Emerg; December 28, 1993, Reg; August 2, 2012, Susp. | ......do | Do.
Region VIII
Utah:
Salt Lake City, City of, Salt Lake County | 490105 | May 28, 1974, Emerg; August 1, 1983, Reg; August 2, 2012, Susp. | ......do | Do.
South Salt Lake, City of, Salt Lake County | 490219 | May 23, 1975, Emerg; December 18, 1985, Reg; August 2, 2012, Susp. | ......do | Do.
*do = Ditto.
Code for reading third column: Emerg.—Emergency; Reg.—Regular; Susp.—Suspension.

Dated: July 11, 2012.
David L. Miller,
Associate Administrator, Federal Insurance and Mitigation Administration, Department of Homeland Security, Federal Emergency Management Agency.

[FR Doc. 2012-17810 Filed 7-20-12; 8:45 am]

BILLING CODE 9110-12-P